DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 1, 2002.

Interested persons are invited to submit written comments regarding the subject matter of the investigations to the Director, Division of Trade Adjustment Assistance, at the address shown below, not later than November 1, 2002.

The petitions filed in this case are available for inspection at the Office of the Director, Division of Trade Adjustment Assistance, Employment and Training Administration, U.S. Department of Labor, Room C-5311, 200 Constitution Avenue, NW., Washington, DC 20210.

Signed at Washington, DC, this 23rd day of September, 2002.
Edward A. Tomchick,
Director, Division of Trade Adjustment Assistance.

Appendix
[Petitions Instituted On 09/23/2002]
TA-W | Subject firm (petitioners) | Location | Date of petition | Product(s)
42,149 | Modine Manufacturing (Co.) | Knoxville, TN | 08/16/2002 | Aluminum oil and charge air coolers.
42,150 | Precision Castparts (Wkrs) | North Grafton, MA | 09/04/2002 | Beams, brackets, drag struts, gear beams.
42,151 | Electric Systems (Co.) | Glysburg, PA | 09/10/2002 | Custom wine harnesses.
42,152 | Pringle Power Vac (Wkrs) | Walla Walla, WA | 09/11/2002 | Power vacuum equipment.
42,153 | Wells Lamon Corp. (Wkrs) | Waynesboro, MS | 09/04/2002 | Leather and textile work gloves.
42,154 | Traction Technologies (Co.) | Jonesboro, AR | 09/04/2002 | Axle tubes, gears, pinion mate shafts.
42,155 | Franklin Mint (The) (Wkrs) | Franklin Center, PA | 09/05/2002 | Collectible dolls, plates, cars.
42,156 | Wisconsin Automated Mach (Co.) | Oshkosh, WI | 09/05/2002 | Metal cutting band saws.
42,157 | A.O. Smith Electrical (Co.) | Upper Sandusky, OH | 09/04/2002 | Aluminum endframes, rotors, shafts.
42,158 | O-Cedar Brands (Co.) | Portland, IN | 09/05/2002 | Brushes, mops and brooms.
42,159 | Landis Gardner (Wkrs) | Waynesboro, PA | 09/03/2002 | Cylindrical grinding machines.
42,160 | Atadis U.S.A. (IBT) | McAdoo, PA | 08/29/2002 | Cigars and cigarettes.
42,161 | Loris Industries (Co.) | Loris, SC | 08/30/2002 | Yarn, polyester, rayon, acrylic staple.
42,162 | Forney, Inc. (USWA) | Hermitage, PA | 09/04/2002 | Testing equip. for concrete, asphalt.
42,163 | VF Imagewear (West) (Co.) | Sparta, TN | 09/04/2002 | Men's work clothing.
42,164 | Exide Technology (Wkrs) | Columbus, GA | 08/22/2002 | Batteries.
42,165 | Wirtz Manufacturing (Wkrs) | Port Huron, MI | 08/30/2002 | Filling, casting and assembly machinery.
42,166 | Best Manufacturing (Co.) | Johnson City, TN | 08/30/2002 | Disposable synthetic rubber gloves.
42,167 | ADC Telecommunications (Wkrs) | Le Sueur, MN | 09/04/2002 | Wiring lines.
42,168 | Gulfstream Aerospace (Wkrs) | Bethany, OK | 09/06/2002 | Aircraft parts.
42,169 | Alcoa, Inc (Co.) | Badin, NC | 09/06/2002 | Molten aluminum metal.
42,170 | FMC Corporation (UFCW) | Town of Tonawan, NY | 09/09/2002 | Sodium, ammonium, and potassium persulfa.
42,171 | Foothills Apparel (Co.) | Albany, KY | 09/10/2002 | Shirts.
42,172 | Volex (Co.) | Clinton, AR | 09/06/2002 | Power cords, electric cords.
42,173 | ADC Telecommunications (Wkrs) | Vadnais Heights, MN | 09/04/2002 | Optical laser products, pump lasers.
42,174 | Sterling Fibers (Co.) | Pace, FL | 09/17/2002 | Acrylic fibers and textile goods.
42,175 | Hilti, Inc. (Wkrs) | New Castle, PA | 08/23/2002 | Repair and condition molds.
42,176 | Georgia Pacific (IAM) | Ft. Bragg, CA | 07/22/2002 | Wood logs.
42,177 | Fred B. Moe Logging (Co.) | Centralia, WA | 09/06/2002 | Raw logs.

[FR Doc. 02-26735 Filed 10-21-02; 8:45 am]

BILLING CODE 4510-30-M